DEPARTMENT OF LABOR

Employment and Training Administration

[TA-W-64,666]

Kongsberg Automotive, Formerly Known as Teleflex, Including On-Site Leased Workers From Labor Finders, the Arnold Group, LSI Staffing and Richard Weisbart, Haysville, KS; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 29, 2008, applicable to workers of Kongsberg Automotive, formerly known as Teleflex, Incorporated, including on-site leased workers from Labor Finders, The Arnold Group, and LSI Staffing, Haysville, Kansas. The notice was published in the Federal Register on January 26, 2009 (74 FR 4463).

At the request of the company official, the Department reviewed the certification for workers of the subject firm. The workers produce injected plastic components for the automotive industry.

New information provided by the company shows that during the initial investigation, the official inadvertently excluded the Richard Weisbart contract with Kongsberg Automotive in Haysville, Kansas. Mr. Weisbart is the plant manager and is sufficiently under the control of the subject firm.

The intent of the Department's certification is to include all workers at the subject firm who were adversely affected by the shift in production to Mexico.

Based on these findings, the Department is amending the certification to include Richard Weisbart working on-site at the Haysville, Kansas location of the subject firm.

The amended notice applicable to TA-W-64,666 is hereby issued as follows:

All workers of Kongsberg Automotive, formerly known as Teleflex, Incorporated, including on-site leased workers from Labor Finders, The Arnold Group, LSI Staffing, and Richard Weisbart, Haysville, Kansas, who became totally or partially separated from employment on or after December 9, 2007, through December 29, 2010, are eligible to apply for adjustment assistance under Section 223 of the Trade Act of 1974, and are also eligible to apply for alternative trade adjustment assistance under Section 246 of the Trade Act of 1974.

Signed at Washington, DC, this 31st day of March 2009.
Linda G. Poole,
Certifying Officer, Division of Trade Adjustment Assistance.

[FR Doc. E9-7800 Filed 4-6-09; 8:45 am]

BILLING CODE 4510-FN-P